DEPARTMENT OF TRANSPORTATION

Federal Aviation Administration

Thirty-Fourth Meeting: Special Committee 224 (SC 224)

AGENCY: Federal Aviation Administration (FAA), U.S. Department of Transportation (DOT).

ACTION: Thirty-Fourth Meeting Notice of Special Committee 224.

SUMMARY: The FAA is issuing this notice to advise the public of the thirty-fourth meeting of the Special Committee 224.

DATES: The meeting will be held August 6th from 10:00 a.m.-3:00 p.m.

ADDRESSES: The meeting will be held at RTCA Headquarters, 1150 18th Street NW., Suite 910, Washington, DC 20036, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, (202) 330-0654.

SUPPLEMENTARY INFORMATION: Pursuant to section 10(a) (2) of the Federal Advisory Committee Act (Pub. L. 92-463, 5 U.S.C., App.), notice is hereby given for a meeting of the Special Committee 224. The agenda will include the following:

Thursday, August 6, 2015

1. Welcome/Introductions/Administrative Remarks

2. Review/Approve Previous Meeting Summary

3. Report from the TSA

4. Report on Safe Skies on Document Distribution

5. Review of the Credentialing Section

6. Review of Other DO-230 “G” Sections

7. Action Items for Next Meeting

8. Time and Place of Next Meeting

9. Any Other Business

10. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 14, 2015.
Latasha Robinson,
Management & Program Analyst, NextGen, Program Oversight and Administration, Federal Aviation Administration.

[FR Doc. 2015-17511 Filed 7-15-15; 8:45 am]

BILLING CODE 4910-13-P